DEPARTMENT OF COMMERCE

National Oceanic and Atmospheric Administration

RIN 0648-XE036

Fisheries of the Caribbean, Gulf of Mexico, and South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Florida Keys Commercial Fisherman's Association (Association). If granted, the EFP would authorize the deployment of four fish trap designs at several sites in the Federal waters of the Gulf of Mexico (Gulf) and the South Atlantic to determine the effectiveness of these gear types for attracting and collecting invasive lionfish and to obtain lionfish life-history information over a 1 year period. The EFP would also utilize an outreach and education program to inform the public about the status of lionfish as an invasive species, efforts to control the spread of the population, and utilization of lionfish as a consumer food source.

DATES: Written comments must be received on or before September 15, 2016.

ADDRESSES: You may submit comments on the application by any of the following methods:

• Email: 0648.XE036.Association.Lionfish.EFP@noaa.gov. Include in the subject line of the email comment the following document identifier: “Association Lionfish_EFP”.

• Mail: Susan Gerhart, Southeast Regional Office, NMFS, 263 13th Avenue South, St. Petersburg, FL 33701.

The application and related documents are available for review upon written request to any of the above addresses.

FOR FURTHER INFORMATION CONTACT: Susan Gerhart, 727-824-5305; email: susan.gerhart@noaa.gov.

SUPPLEMENTARY INFORMATION: The EFP is requested under the authority of the Magnuson-Stevens Fishery Conservation and Management Act (16 U.S.C. 1801 et seq.), and regulations at 50 CFR 600.745(b) concerning exempted fishing.

Lionfish is an invasive species that occurs in both the Gulf and South Atlantic. The harvest of lionfish in the Federal waters of the Gulf and South Atlantic is not currently managed. The EFP request, however, involves the use of prohibited gear types. Federal regulations prohibit the use or possession of a fish trap in Federal waters in the Gulf of Mexico and South Atlantic, except in certain fisheries with certain approved traps (50 CFR 622.2 and 622.9(c)). In Gulf Federal waters, crustacean traps are allowed for the commercial harvest of spiny lobster (50 CFR 622.2 and 622.405), and in South Atlantic Federal waters, black sea bass pots are allowed for the commercial harvest of black sea bass, golden crab traps are allowed for the commercial harvest of golden crab, and crustacean traps are allowed for the commercial harvest of spiny lobster (50 CFR 622.2, 622.198, 622.248, 622.249, and 622.405). The EFP would exempt this research activity from Federal regulations at 50 CFR 622.9(c).

The purpose of this study is to test the effectiveness of different trap designs in capturing lionfish in the Gulf and South Atlantic with a goal of determining the performance of traps as part of a lionfish population control program. Additionally, the project would collect information on lionfish population distribution, density, and life-history information. The applicant also proposes to develop and utilize an outreach and education program to further increase awareness about the lionfish, its status as an invasive species, efforts to control the spread of the population, and utilization of lionfish as a consumer food source.

The Association requests authorization to deploy four fish trap designs at reef sites in the Federal waters of the Gulf and South Atlantic to target lionfish. Fish trap deployment in the Gulf would be off west central Florida (Tampa, FL), in the South Atlantic off east central Florida (Ponce Inlet, FL) and South Carolina (Murrells Inlet, SC), and in the Florida Keys.

As described in the application, the four fish trap designs to be tested are wood spiny lobster trap, wire basket spiny lobster trap, rectangular wire trap, and sea bass pot. All four designs would have biodegradable trap panels and modified funnels not to exceed 4 by 7 inches (10 by 18 cm). Current project plans would have 25 of each of the 4 trap types deployed on the seafloor in a combination resulting in 4 strings of 25 traps per string at each of the four locations twice per month during a 12-month period during the project. The depth of trap deployment is expected to be between 65 to 300 ft (20 to 91 m). Trap soak time will range from several hours to 2 weeks depending on trap type and location. Setting and hauling of the traps is expected to occur during daylight hours. Bait to be used in the traps would include live lionfish, cowhide strips, and/or female lionfish gonads. Sampling at each site would be limited to 100 days per year.

Vessels to be used in the proposed study would be federally permitted commercial fishing vessels under contract to the Association. Vessel crew or observers onboard the contract vessels during the sampling trips would collect and record date and time of trap deployment and retrieval, location, water depth, and collect biological samples. Video images would also be used to assess the success of the trap designs as structures for attracting lionfish. A percentage of the lionfish catch would be retained for further biological sampling and analysis under the study, a percentage would be tagged and released, and a percentage would be retained to promote lionfish as a food source to the consumer. All other fish species caught in the traps would be released and returned to depth using decompression devices; only lionfish would be retained in the project.

The applicant has requested the EFP be effective for a 1-year period from the date any EFP is issued.

The applicant is still in the process of obtaining funding for this research. Therefore, further information regarding the specific locations for sampling, sampling methods and schedule, are not yet available. If, based on this additional information, the permit as granted is significantly different from the original application, NMFS may publish notification in the Federal Register describing the exempted fishing to be conducted under the EFP.

NMFS finds this application warrants further consideration based on a preliminary review. Possible conditions the agency may impose on this permit, if they are granted, include but are not limited to, a prohibition of conducting research within marine protected areas, marine sanctuaries, special management zones, or artificial reefs without additional authorization. Additionally, NMFS may require special protections for species listed under the Endangered Species Act and their critical habitat. A final decision on issuance of the EFP will depend on NMFS' review of public comments received on the application, consultations with the appropriate fishery management agencies of the affected states, the Gulf of Mexico and South Atlantic Fishery Management Councils, and the U.S. Coast Guard, and a determination that they are consistent with all applicable laws.

Authority: 16 U.S.C. 1801 et seq.

Dated: August 11, 2016.
Emily H. Menashes,
Acting Director, Office of Sustainable Fisheries, National Marine Fisheries Service.

[FR Doc. 2016-19505 Filed 8-15-16; 8:45 am]

BILLING CODE 3510-22-P